FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (http://fmcinet/fmc.agreements.web/public) or by contacting the Office of Agreements at (202)-523-5793 or tradeanalysis@fmc.gov.

Agreement No.: 011324-021.

Title: Transpacific Space Utilization Agreement.

Parties: American President Lines, Ltd and APL Co. PTE Ltd. (as a single carrier); Hapag-Lloyd AG; Hyundai Merchant Marine Co., Ltd.; Evergreen Line Joint Service Agreement; Westwood Shipping Lines; Yang Ming Marine Transport Corporation; Kawasaki Kisen Kaisha, Ltd.; Nippon Yusen Kaisha, Ltd.; and Orient Overseas Container Line Limited.

Filing Party: Wayne Rohde; Cozen O'Connor; 1200 19th Street NW.; Washington, DC 20036.

Synopsis: The amendment deletes Hanjin Shipping Company, Ltd. as a party to the agreement.

Agreement No.: 011409-020.

Title: Transpacific Carrier Services Inc. Agreement.

Parties: American President Lines, Ltd. and APL Co. PTE Ltd. (operating as a single carrier); CMA CGM S.A.; COSCO Container Lines Company, Ltd.; Evergreen Lines Joint Service Agreement; Hapag-Lloyd AG; Hyundai Merchant Marine Co., Ltd.; Kawasaki Kisen Kaisha, Ltd.; Nippon Yusen Kaisha, Ltd.; Orient Overseas Container Line Limited; Yang Ming Marine Transport Corp.; and Zim Integrated Shipping Services, Ltd.

Filing Party: Wayne Rohde, Esq.; Cozen O'Connor; 1627 I Street NW.; Suite 1100; Washington, DC 20006.

Synopsis: The amendment deletes Hanjin Shipping Company, Ltd.; China Shipping Container Lines (Hong Kong) Co., Ltd.; and China Shipping Container Lines Co., Ltd. as parties to the agreement.

Agreement No.: 011961-022.

Title: The Maritime Credit Agreement.

Parties: COSCO Container Lines Company, Ltd.; Kawasaki Kisen Kaisha, Ltd.; Maersk Line A/S; United Arab Shipping; Willenius Wilhelmsen Logistics AS; and Zim Integrated Shipping Services, Ltd.

Filing Party: Wayne Rohde, Esq.; Cozen O'Connor; 1627 I Street NW.; Suite 1100; Washington, DC 20006.

Synopsis: The amendment deletes Hanjin Shipping Company, Ltd. as a party to the agreement.

Agreement No.: 012481.

Title: CMA CGM/UASC U.S.-West Med Slot Charter Agreement.

Parties: CMA CGM, S.A. and United Arab Shipping Co.

Filing Party: Draughn B. Arbona, Esq; CMA CGM (America) LLC; 5701 Lake Wright Drive; Norfolk, VA 23502.

Synopsis: The agreement authorizes CMA CGM to charter space to UASC in the trade between the U.S. East Coast on the one hand, and Italy and Spain on the other hand.

Agreement No.: 201157-006.

Title: USMX-ILA Master Contract between United States Maritime Alliance, Ltd. and International Longshoremen's Association.

Parties: United States Maritime Alliance, Ltd., on behalf of Management, and the International Longshoremen's Association, AFL-CIO.

Filing Parties: William M. Spelman, Esq.; The Lambos Firm; 303 South Broadway, Suite 410; Tarrytown, NY 10591; and Andre Mazzola, Esq.; Marrinan & Mazzola Mardon, P.C.; 26 Broadway, 17th Floor; New York, NY 10004.

Synopsis: The amendment reduces the number of management and labor representatives required to convene the Industry Appellate Committee.

By Order of the Federal Maritime Commission.
Dated: April 14, 2017.
Rachel E. Dickon,
Assistant Secretary.

[FR Doc. 2017-07925 Filed 4-18-17; 8:45 am]

BILLING CODE 6731-AA-P